DEPARTMENT OF ENERGY

Federal Energy Regulatory Commission

Combined Notice of Filings

Take notice that the Commission has received the following Natural Gas Pipeline Rate and Refund Report filings:

Filings Instituting Proceedings

Docket Numbers: RP19-1023-001.

Applicants: MIGC LLC.

Description: Compliance filing NAESB V3.1 (Order No. 587-Y) Compliance 2 to be effective 8/1/2019.

Filed Date: 9/26/19.

Accession Number: 20190926-5035.

Comments Due: 5 p.m. ET 10/8/19.

Docket Numbers: RP19-1607-000.

Applicants: Dominion Energy Transmission, Inc., Dominion Energy Cove Point LNG, LP, Dominion Energy Carolina Gas Transmission.

Description: Notice of Unplanned Computer System Outage and Request for Waiver of Dominion Energy Transmission, Inc., et al.

Filed Date: 9/26/19.

Accession Number: 20190926-5165.

Comments Due: 5 p.m. ET 10/8/19.

Docket Numbers: RP19-1614-000.

Applicants: Rover Pipeline LLC.

Description: § 4(d) Rate Filing: Fuel Filing on 9-30-19 to be effective 11/1/2019.

Filed Date: 9/30/19.

Accession Number: 20190930-5014.

Comments Due: 5 p.m. ET 10/15/19.

Docket Numbers: RP19-1615-000.

Applicants: Southwest Gas Storage Company.

Description: § 4(d) Rate Filing: Fuel Filing on 9-30-19 to be effective 11/1/2019.

Filed Date: 9/30/19.

Accession Number: 20190930-5015.

Comments Due: 5 p.m. ET 10/15/19.

Docket Numbers: RP19-1616-000.

Applicants: Algonquin Gas Transmission, LLC.

Description: § 4(d) Rate Filing: Atlantic Bridge—In-Service Non-Conforming Filing to be effective 10/1/2019.

Filed Date: 9/30/19.

Accession Number: 20190930-5016.

Comments Due: 5 p.m. ET 10/15/19.

Docket Numbers: RP19-1617-000.

Applicants: NEXUS Gas Transmission, LLC.

Description: § 4(d) Rate Filing: Negotiated Rates—Columbia Gas 860005 Oct 1 releases to be effective 10/1/2019.

Filed Date: 9/30/19.

Accession Number: 20190930-5017.

Comments Due: 5 p.m. ET 10/15/19.

Docket Numbers: RP19-1618-000.

Applicants: Cadeville Gas Storage LLC.

Description: Compliance filing CGS NAESB STANDARDS to be effective 8/1/2019.

Filed Date: 9/30/19.

Accession Number: 20190930-5020.

Comments Due: 5 p.m. ET 10/15/19.

Docket Numbers: RP19-1619-000.

Applicants: Monroe Gas Storage Company, LLC.

Description: Compliance filing MGS NAESB STANDARDS to be effective 8/1/2019.

Filed Date: 9/30/19.

Accession Number: 20190930-5025.

Comments Due: 5 p.m. ET 10/15/19.

Docket Numbers: RP19-1620-000.

Applicants: Perryville Gas Storage LLC.

Description: Compliance filing PGS NAESB STANDARDS to be effective 8/1/2019.

Filed Date: 9/30/19.

Accession Number: 20190930-5031.

Comments Due: 5 p.m. ET 10/15/19.

Docket Numbers: RP19-1621-000.

Applicants: Trunkline Gas Company, LLC.

Description: § 4(d) Rate Filing: Fuel Filing on 9-30-19 to be effective 11/1/2019.

Filed Date: 9/30/19.

Accession Number: 20190930-5033.

Comments Due: 5 p.m. ET 10/15/19.

Docket Numbers: RP19-1622-000.

Applicants: LA Storage, LLC.

Description: § 4(d) Rate Filing: Filing of Negotiated Rate, Conforming IW Agreements (Increased Capacity 10/1 to be effective 10/1/2019.

Filed Date: 9/30/19.

Accession Number: 20190930-5047.

Comments Due: 5 p.m. ET 10/15/19.

Docket Numbers: RP19-1623-000.

Applicants: Northwest Pipeline LLC.

Description: Compliance filing North Seattle Lateral Compliance Filing to be effective 11/1/2019.

Filed Date: 9/30/19.

Accession Number: 20190930-5078.

Comments Due: 5 p.m. ET 10/15/19.

Docket Numbers: RP19-1624-000.

Applicants: Texas Eastern Transmission, LP.

Description: § 4(d) Rate Filing: NCF Agreements—contracts 400229 and 400233 to be effective 10/30/2019.

Filed Date: 9/30/19.

Accession Number: 20190930-5079.

Comments Due: 5 p.m. ET 10/15/19.

Docket Numbers: RP19-1625-000.

Applicants: El Paso Natural Gas Company, L.L.C.

Description: § 4(d) Rate Filing: Non-Conforming Negotiated Rate Agreement Update (SoCal Nov19) to be effective 11/1/2019.

Filed Date: 9/30/19.

Accession Number: 20190930-5080.

Comments Due: 5 p.m. ET 10/15/19.

Docket Numbers: RP19-1626-000.

Applicants: Algonquin Gas Transmission, LLC.

Description: Compliance filing Atlantic Bridge—In-Service NRA Filing to be effective 10/1/2019.

Filed Date: 9/30/19.

Accession Number: 20190930-5084.

Comments Due: 5 p.m. ET 10/15/19.

Docket Numbers: RP19-1627-000.

Applicants: Gulf South Pipeline Company, LP.

Description: § 4(d) Rate Filing: Cap Rel Neg Rate Agmt (JERA releases eff 10-1-2019) to be effective 10/1/2019.

Filed Date: 9/30/19.

Accession Number: 20190930-5109.

Comments Due: 5 p.m. ET 10/15/19.

Docket Numbers: RP19-1628-000.

Applicants: Gulf South Pipeline Company, LP.

Description: § 4(d) Rate Filing: Cap Rel Neg Rate Agmt (Osaka 46429 to Spotlight 51545) to be effective 10/1/2019.

Filed Date: 9/30/19.

Accession Number: 20190930-5110.

Comments Due: 5 p.m. ET 10/15/19.

Docket Numbers: RP19-1629-000.

Applicants: Gulf South Pipeline Company, LP.

Description: § 4(d) Rate Filing: Cap Rel Neg Rate Agmts (Atlanta Gas 8438 to various shippers eff 10-1-2019) to be effective 10/1/2019.

Filed Date: 9/30/19.

Accession Number: 20190930-5111.

Comments Due: 5 p.m. ET 10/15/19.

Docket Numbers: RP19-1630-000.

Applicants: Texas Gas Transmission, LLC.

Description: § 4(d) Rate Filing: Cap Rel Neg Rate Agmt (JERA 37702 to EDF 38220) to be effective 10/1/2019.

Filed Date: 9/30/19.

Accession Number: 20190930-5113.

Comments Due: 5 p.m. ET 10/15/19.

Docket Numbers: RP19-1631-000.

Applicants: Algonquin Gas Transmission, LLC.

Description: § 4(d) Rate Filing: Negotiated Rate—NSTAR release to BP Energy 799966 to be effective 10/1/2019.

Filed Date: 9/30/19.

Accession Number: 20190930-5115.

Comments Due: 5 p.m. ET 10/15/19.

Docket Numbers: RP19-1632-000.

Applicants: Gulf South Pipeline Company, LP.

Description: § 4(d) Rate Filing: Cap Rel Neg Rate Agmts (Aethon 37657, 50488 to Scona 51610, 51608) to be effective 10/1/2019.

Filed Date: 9/30/19.

Accession Number: 20190930-5123.

Comments Due: 5 p.m. ET 10/15/19.

Docket Numbers: RP19-1633-000.

Applicants: Tennessee Gas Pipeline Company, L.L.C.

Description: § 4(d) Rate Filing: Volume No. 2—Neg Rate Agmt—Twin, Shell, Seq, Merc, Columb & Freepoint to be effective 11/1/2019.

Filed Date: 9/30/19.

Accession Number: 20190930-5121.

Comments Due: 5 p.m. ET 10/15/19.

Docket Numbers: RP19-1634-000.

Applicants: Kinetica Deepwater Express, LLC.

Description: § 4(d) Rate Filing: Section 4 Rate Case to be effective 11/1/2019.

Filed Date: 9/30/19.

Accession Number: 20190930-5146.

Comments Due: 5 p.m. ET 10/15/19.

Docket Numbers: RP19-1635-000.

Applicants: Dominion Energy Carolina Gas Transmission.

Description: § 4(d) Rate Filing: DECG—2019 FRQ and TDA Report to be effective 11/1/2019.

Filed Date: 9/30/19.

Accession Number: 20190930-5147.

Comments Due: 5 p.m. ET 10/15/19.

Docket Numbers: RP19-1636-000.

Applicants: Tennessee Gas Pipeline Company, L.L.C.

Description: § 4(d) Rate Filing: Volume No. 2—Neg Rate Agmt—Peninsula and South Jersey to be effective 11/1/2019.

Filed Date: 9/30/19.

Accession Number: 20190930-5148.

Comments Due: 5 p.m. ET 10/15/19.

Docket Numbers: RP19-1637-000.

Applicants: Dominion Energy Transmission, Inc.

Description: § 4(d) Rate Filing: DETI—2019 Annual EPCA to be effective 11/1/2019.

Filed Date: 9/30/19.

Accession Number: 20190930-5152.

Comments Due: 5 p.m. ET 10/15/19.

Docket Numbers: RP19-1638-000.

Applicants: Dominion Energy Transmission, Inc.

Description: § 4(d) Rate Filing: DETI—2019 Annual TCRA to be effective 11/1/2019.

Filed Date: 9/30/19.

Accession Number: 20190930-5153.

Comments Due: 5 p.m. ET 10/15/19.

Docket Numbers: RP19-1639-000.

Applicants: Transcontinental Gas Pipe Line Company, LLC.

Description: § 4(d) Rate Filing: Rate Schedule LNG—INJ and W/D Rights to be effective 11/1/2019.

Filed Date: 9/30/19.

Accession Number: 20190930-5155.

Comments Due: 5 p.m. ET 10/15/19.

Docket Numbers: RP19-1640-000.

Applicants: Sabine Pipe Line LLC.

Description: § 4(d) Rate Filing: Normal 2019 Oct to be effective 10/1/2019.

Filed Date: 9/30/19.

Accession Number: 20190930-5172.

Comments Due: 5 p.m. ET 10/15/19.

Docket Numbers: RP19-1641-000.

Applicants: Panhandle Eastern Pipe Line Company, LP.

Description: § 4(d) Rate Filing: Fuel Filing on 9-30-19 to be effective 11/1/2019.

Filed Date: 9/30/19.

Accession Number: 20190930-5175.

Comments Due: 5 p.m. ET 10/15/19.

Docket Numbers: RP19-1642-000.

Applicants: El Paso Natural Gas Company, L.L.C.

Description: § 4(d) Rate Filing: Negotiated Rate Agreement Update (Conoco Oct 2019) to be effective 10/1/2019.

Filed Date: 9/30/19.

Accession Number: 20190930-5191.

Comments Due: 5 p.m. ET 10/15/19.

Docket Numbers: RP19-1643-000.

Applicants: Tallgrass Interstate Gas Transmission, LLC.

Description: § 4(d) Rate Filing: Neg Rate 2019-09-30 CIMA Energy to be effective 10/1/2019.

Filed Date: 9/30/19.

Accession Number: 20190930-5194.

Comments Due: 5 p.m. ET 10/15/19.

Docket Numbers: RP19-1644-000.

Applicants: Exelon Generation Company, LLC, Summit Natural Gas of Maine, Boston Gas Company.

Description: Joint Petition for Temporary Waiver of Commission Policies, Capacity Release Regulations and Policies, et al. of Exelon Generation Company, LLC, et al. under RP19-1644.

Filed Date: 9/30/19.

Accession Number: 20190930-5223.

Comments Due: 5 p.m. ET 10/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2019.
Nathaniel J. Davis, Sr.,
Deputy Secretary.

[FR Doc. 2019-22099 Filed 10-8-19; 8:45 am]

BILLING CODE 6717-01-P